DEPARTMENT OF STATE

[Public Notice 5333]

Comprehensive Environmental Evaluation for Antarctic Activities

ACTION: Notice.

SUMMARY: The Department of State gives notice of the availability of a draft Comprehensive Environmental Evaluation (CEE) for activities proposed to be undertaken in Antarctica. Interested members of the public are invited to submit comments relative to this CEE.

DATES: Comments must be submitted on or before May 31, 2006.

ADDRESSES: Send comments to OES/OA, Room 5805; Department of State; Washington, DC 20520, or to SaturniFM@state.gov.

FOR FURTHER INFORMATION CONTACT: Fabio M. Saturni, Office of Oceans Affairs, (202) 647-0237.

SUPPLEMENTARY INFORMATION: Article 3 of Annex I to the Protocol on Environmental Protection to the Antarctic Treaty requires the preparation of a CEE for any proposed Antarctic activity likely to have more than a minor or transitory impact. Draft CEEs are to be made publicly available with a 90-day period for receipt of comments. This notice is published pursuant to 16 U.S.C. 2403a(h).

The Department of State has received a draft CEE submitted by Belgium entitled “Construction and operation of the new Belgian Research Station, Dronning Maud Land, Antarctica.” The document is available on the Internet at the following website: http://www.belspo.be/belspo/BePoles/doc/draft_CEE.pdf.

The Department of State invites interested members of the public to provide written comments on this draft CEE.

Dated: February 23, 2006.
Raymond Arnaudo,
Deputy Director, Office of Oceans Affairs, Department of State.

[FR Doc. E6-2885 Filed 2-28-06; 8:45 am]

BILLING CODE 4710-09-P